DEPARTMENT OF THE TREASURY

Internal Revenue Service

Special Enrollment Examination Advisory Committee; Notice of Meeting

AGENCY: Internal Revenue Service, Office of Director of Practice, Treasury

ACTION: Notice of Federal advisory committee meeting.

SUMMARY: Notice is given of a meeting of the Special Enrollment Examination Advisory Committee.

DATES: The meeting will be held Friday, January 18, 2002 (8:30 a.m. to 11 a.m.) Written requests to speak at the meeting or to attend the meeting must be received no later than January 7, 2002.

ADDRESSES: The meeting will be held at the Radisson Hotel Opryland, 2401 Music Valley Drive, Nashville, Tennessee 37214. Written requests to speak at the meeting or to attend the meeting must be mailed, faxed, or E-mailed to: Internal Revenue Service, Office of Director of Practice, N:C:SC:DOP, Attn: Kathy Hughes, Designated Federal Officer, 1111 Constitution Avenue, NW., Washington, DC 20224; fax number 202-694-1934; E-mail address Kathy.E.Hughes@irs.gov.

FOR FURTHER INFORMATION CONTACT: Kathy Hughes, Designated Federal Officer, Special Enrollment Examination Advisory Committee, at 202-694-1851.

SUPPLEMENTARY INFORMATION: The purpose of the meeting is to cover the following agenda:

Friday, January 18, 2002, 8:30 a.m.-11 a.m.

Public Session: Discussion of Continuing Professional Education Courses

Beginning at 10 a.m. on Friday, January 18, 2002, interested persons may speak at the meeting in accordance with the following limitations: (1) Speakers' remarks must be germane to the topic listed above or germane to the Enrolled Agent Program; and (2) remarks must be limited to no more than 10 minutes. Persons wishing to speak must send Kathy Hughes, the Designated Federal Officer, a written request and the text or outline of their remarks, prior to the meeting in order to allow for the compilation of a speakers list. Speakers will be entered on the list in order of the receipt of their requests. No more than six requests will be accepted. Speakers will be notified of their position on the list, or in case more than six requests are received, that their requests to speak cannot be granted.

Persons interested in attending the meeting (but not speaking) must also send Kathy Hughes a written request prior to the meeting in order to allow for adequate seating. Every effort will be made to accommodate all requests for attendance.

Written requests to speak and written requests to attend must be received no later than January 7, 2002.

At any time, any interested person may submit to Kathy Hughes a written statement concerning the SEE or the Enrolled Agent Program. Such statements will be considered by the Director of Practice and, at his discretion, may be referred to the Committee for discussion at a later meeting.

Dated: December 17, 2001.
Patrick W. McDonough,
Director of Practice.

[FR Doc. 01-31652 Filed 12-21-01; 8:45 am]

BILLING CODE 4830-01-P